NUCLEAR REGULATORY COMMISSION

Notice of Availability of NUREG-1800, Revision 1, “Standard Review Plan for Review of License Renewal Applications for Nuclear Power Plants,” NUREG-1801, Revision 1, “Generic Aging Lessons Learned (GALL) Report,” and NUREG-1832, “Analysis of Public Comments on the Revised License Renewal Guidance Documents”

AGENCY: U.S. Nuclear Regulatory Commission (NRC).

ACTION: Notice of availability.

SUMMARY: The U.S. Nuclear Regulatory Commission (NRC) is issuing NUREG-1800, “Standard Review Plan for Review of License Renewal Applications for Nuclear Power Plants,” Revision 1 and NUREG-1801, “Generic Aging Lessons Learned (GALL) Report,” Revision 1. These documents describe methods acceptable to the NRC staff for implementing the license renewal rule, as well as techniques used by the NRC staff in evaluating applications for license renewal. The draft versions of these documents were issued for public comment on February 1, 2005 (70 FR 5254). The NRC staff assessment of public comments is being issued as NUREG-1832, “Analysis of Public Comments on the Revised License Renewal Guidance Documents.”

ADDRESSES: Electronic copies are available in the Commission's Public Document Room (PDR), located at One White Flint North, 11555 Rockville Pike (first floor), Rockville, Maryland, 20852 or electronically from the NRC's Agencywide Documents Access and Management System (ADAMS). The Public Electronic Reading Room is accessible from the NRC's Web site at http://www.nrc.gov/reading-rm/adams.html. NUREG-1800, Revision 1, is under ADAMS Accession number ML052110007; NUREG-1801, Revision 1, is under ADAMS Accession numbers ML052110005 (Volume 1) and ML052110006 (Volume 2); and NUREG-1832 (Analysis of Public Comments) is under ADAMS Accession number ML052110004. Persons who do not have access to ADAMS or who encounter problems in accessing the documents located in ADAMS should contact the NRC's PDR Reference staff at 1-800-397-4209, 301-415-4737, or by e-mail at pdr@nrc.gov.

FOR FURTHER INFORMATION CONTACT: Mr. Jerry Dozier, License Renewal Project Manager, Office of Nuclear Reactor Regulation, Mail Stop O-11F1, U.S. Nuclear Regulatory Commission, Washington, DC 20555-0001, telephone 301-415-1014, or by e-mail at jxd@nrc.gov.

SUPPLEMENTARY INFORMATION:

Standard Review Plan for Review of LR Applications for Nuclear Power Plants, Rev. 1

The NRC staff revised the July 2001 version of NUREG-1800, “Standard Review Plan for Review of License Renewal Applications for Nuclear Power Plants” (SRP-LR). The SRP-LR provides guidance to NRC staff reviewers in performing safety reviews of applications to renew licenses of nuclear power plants in accordance with the license renewal rule. The SRP-LR, Revision 1, is under ADAMS Accession number ML052110007. The SRP-LR is revised to incorporate lessons learned from the review of a number of previous license renewal applications, as well as to make changes corresponding to the update of the GALL Report. The SRP-LR, Revision 1, contains four major chapters: (1) Administrative Information; (2) Scoping and Screening Methodology for Identifying Structures and Components Subject to Aging Management Review, and Implementation Results; (3) Aging Management Review Results; and (4) Time-Limited Aging Analyses. In addition, three Branch Technical Positions are in an Appendix to the SRP-LR, Revision 1.

Generic Aging Lessons Learned (GALL) Report, Revision 1

The Generic Aging Lessons Learned (GALL) Report, Revision 1, is an update to the July 2001 version; the report format is largely unchanged. The GALL Report, Revision 1, Volumes 1 and 2, are available under ADAMS Accession number ML052110005 and ML052110006, respectively. The adequacy of the generic aging management programs in managing certain aging effects for particular structures and components will continue to be evaluated based on the review of the following ten program elements: (1) Scope of program; (2) preventive actions; (3) parameters monitored or inspected; (4) detection of aging effects; (5) monitoring and trending; (6) acceptance criteria; (7) corrective actions; (8) confirmation process; (9) administrative controls; and (10) operating experience. The GALL Report is a technical basis document for the SRP-LR and should be treated in the same manner as an approved topical report that is applicable generically.

Analysis of Public Comments on the Revised LR Guidance Documents

On February 1, 2005, the NRC announced (70 FR 5254) the issuance for public comment and availability a draft of “Standard Review Plan for Review of License Renewal Applications for Nuclear Power Plants' and a draft “Generic Aging Lessons Learned (GALL) Report.” The NRC also announced a public workshop that was held on March 2, 2005, to facilitate gathering public comment on the draft documents. NUREG-1832 contains the NRC response to stakeholders' comments. The dispositions are prepared in a table format and contained in five appendices. Appendix A addresses the specific written comments submitted by the Nuclear Energy Institute (NEI), Appendix B addresses the comments from the Advisory Committee on Reactor Safeguards (ACRS), Appendix C addresses the participant comments from the license renewal public workshop on March 2, 2005, Appendix D addresses the written comments submitted by other public stakeholders, and Appendix E provides a comparison of the aging management review line items from the January 2005 GALL Report to the September 2005 GALL Report.

Dated at Rockville, Maryland, this 27th day of September, 2005.
For the Nuclear Regulatory Commission.
Jacob I. Zimmerman,
Acting Program Director, License Renewal and Environmental Impacts Program, Division of Regulatory Improvement Programs, Office of Nuclear Reactor Regulation.

[FR Doc. 05-19680 Filed 9-29-05; 8:45 am]

BILLING CODE 7590-01-P